DEPARTMENT OF ENERGY

Federal Energy Regulatory Commission

[Docket No. CP00-74-000]

Kinder Morgan Interstate Gas Transmission LLC; Notice of Corporate Name Change

April 26, 2000.

Take notice that on January 27, 2000, Kinder Morgan Interstate Gas Transmission LLC (Kinder Morgan), 370 Van Gordon Street, P.O. Box 281304, Lakewood, Colorado 80228-8304, filed in Docket No. CP00-74-000 a motion pursuant to the Natural Gas Act and Rule 212 of the Commission's Rules and Regulations to substitute the name of Kinder Morgan for K N Interstate Gas Transmission Co. on all proceedings before the Commission. Take notice that on February 25, 2000, Kinder Morgan filed in Docket No. GT00-19-000 a copy of its proposed FERC Gas Tariff, Fourth Revised Volume Nos. 1-A and 1-B and Second Revised Volume Nos. 1-C and 1-D, reflecting the name change, with a Notice of Tariff Filing issued February 29, 2000. It is stated that Kinder Morgan also filed the tariff electronically. On March 16, 2000, a letter order was issued accepting the new tariff. On April 20, 2000, a notice was issued in Docket No. GT00-19-001 stating that Kinder Morgan filed tariff sheets containing new maps as directed in the Commission's March 16 order. In Docket No. GT00-19-002, Kinder Morgan filed on April 20, 2000, revised tariff sheets replacing the title sheets in each of the 4 volumes, clarifying that the previous tariff is cancelled and superseded by the current one.

Any person desiring to be heard or to make any protests with reference to said application should on or before May 8, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken, but will not serve to make the protestants parties to the proceeding. Any person wishing to become a party to a proceeding or to participate as a party in any hearing therein must file a motion to intervene in accordance with the Commission's Rules. Copies of this filing are on file with the Commission and are available for public inspection in the Public Reference Room. This filing may be viewed on the web at http://www.ferc.fed.us/online/rims.htm (call 202-208-2222 for assistance).

Take further notice that, pursuant to the authority contained in and subject to jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Kinder Morgan to appear or be represented at the hearing.

David P. Boergers,
Secretary.

[FR Doc. 00-10859 Filed 5-1-00; 8:45 am]

BILLING CODE 6717-01-M